POSTAL SERVICE

39 CFR Part 233

Inspection Service Authority; Technical Correction

AGENCY: Postal Service™.

ACTION: Final rule; technical correction.

SUMMARY: The U.S. Postal Service® is making a technical correction to ensure that its regulations governing the use of mail covers are consistent with current mail classification terminology, by changing the product name “Standard Mail®” to “USPS Marketing Mail™” wherever necessary.

DATES: This rule is effective July 14, 2017.

ADDRESSES: Questions or comments on this action are welcome. Mail or deliver written comments to David Forde, Acting Assistant Postal Inspector in Charge, Office of Counsel, U.S. Postal Inspection Service, 475 L'Enfant Plaza SW., Room 3136, Washington, DC 20260-3100.

FOR FURTHER INFORMATION CONTACT: David Forde, Acting Assistant Postal Inspector in Charge, Office of Counsel, U.S. Postal Inspection Service, 202-268-7402, DC Forde@uspis.gov.

SUPPLEMENTARY INFORMATION: On December 21, 2016, the Postal Service™ published a final rule replacing the product name “Standard Mail” with the new name “USPS Marketing Mail” throughout subchapter 240 of Mailing Standards of the United States Postal Service, Domestic Mail Manual (DMM). See, 81 FR 93606, 93613-93615. This rebranding is intended to enhance the public's perception of this service, and improve its position in the marketplace. Consistent with these objectives, we are amending our regulations as necessary to reflect that the product name “Standard Mail” has been changed to “USPS Marketing Mail.”

List of Subjects in 39 CFR Part 233

Administrative practice and procedure, Crime, Law enforcement, Penalties, Privacy.

For the reasons stated in the preamble, the Postal Service amends 39 CFR part 233 as follows:

PART 233—[AMENDED]

1. The authority citation for part 233 continues to read as follows:

Authority: 39 U.S.C. 101, 102, 202, 204, 401, 402, 403, 404, 406, 410, 411, 1003, 3005(e)(1); 12 U.S.C. 3401-3422; 18 U.S.C. 981, 983, 1956, 1957, 2254, 3061; 21 U.S.C. 881; Sec. 662, Pub. L. 104-208, 110 Stat. 3009-378.

§ 233.3 [Amended]

2. In § 233.3(c)(4), remove the words “Standard Mail,” and add in their place the words “USPS Marketing Mail.”

Stanley F. Mires,
Attorney, Federal Compliance.

[FR Doc. 2017-14763 Filed 7-13-17; 8:45 am]

BILLING CODE 7710-12-P